DEPARTMENT OF COMMERCE

National Oceanic and Atmospheric Administration

[I.D. 110802B]

Coral, Golden Crab, Shrimp, Spiny Lobster, Red Drum, Coastal Migratory Pelagic Resources, and Snapper-Grouper Fisheries of the South Atlantic

AGENCY: National Marine Fisheries Service (NMFS), National Oceanic and Atmospheric Administration (NOAA), Commerce.

ACTION: Issuance of an exempted fishing permit.

SUMMARY: NMFS announces the issuance of an exempted fishing permit (EFP) for the South Carolina Aquarium (applicant), located in Charleston, SC. The EFP would authorize the applicant, with certain conditions, to collect for public display annually, for 2 years, an average of 25 specimens each of numerous species of marine invertebrates and marine fish from Federal waters off South Carolina. This EFP is similar to the previous EFP issued to the applicant that expired on December 31, 2002.

ADDRESSES: Copies of the EFP are available from Peter Eldridge, Southeast Regional Office, NMFS, 9721 Executive Center Drive N., St. Petersburg, FL 33702.

FOR FURTHER INFORMATION CONTACT: Peter Eldridge, 727-570-5305; fax 727-570-5583; e-mail: peter.eldridge@noaa.gov.

SUPPLEMENTARY INFORMATION: The EFP is issued under the authority of the Magnuson-Stevens Fishery Conservation and Management Act (16 U.S.C. 1801 et seq.) and the regulations at 50 CFR 600.745(b).

The South Carolina Aquarium (SCA), located in Charleston, is a public, non-profit, self-supporting institution for the understanding and conservation of South Carolina's natural aquatic habitats, with extensive field study and outreach programs and with free admission to groups of school children.

The applicant intends, over a period of 2 years, to collect annually for public display an average of 25 specimens each of 76 species of marine invertebrates and 221 species of marine fish from the EEZ off South Carolina, using a variety of fishing gears and the fish anesthetic, quinaldine.

The proposed collection involves activities otherwise prohibited by regulations implementing the Fishery Management Plans of the South Atlantic Region for Coral, Coral Reefs, and Live/Hard Bottom Habitats, Golden Crab, Shrimp, Spiny Lobster, Red Drum, Coastal Migratory Pelagics, and Snapper-Grouper. The EFP authorizes the applicant, consistent with the terms of the EFP, to harvest and possess corals, live rock, golden crab, rock shrimp, red drum, wreckfish, warsaw grouper, speckled hind, spiny lobster, bluefish, cobia, king and Spanish mackerel, groupers and snappers, greater amberjack, hogfish and red porgy species taken from Federal waters off South Carolina. In addition, the EFP authorizes, consistent with the terms of the EFP, the use of quinaldine in a coral area and the possession of species below the minimum size limit and in excess of established bag limits or taken with prohibited gear.

The EFP has a number of conditions concerning the harvest of prohibited species and corals and the gear that can be employed. The EFP requires an annual report to NMFS that lists specimens that have been taken.

The applicant also intends to collect a large number of species that are either not subject to Federal fishery management in the South Atlantic Region or included under a fishery management plan that contains no management measures restricting possession or harvest. The collection of highly migratory species is prohibited in this EFP. The applicant was referred to the NMFS Highly Migratory Species Division for authorization to collect Atlantic highly migratory species, such as sharks and tunas, for public display.

A notice of receipt of the application for this permit was published in the Federal Register on November 21, 2002 (67 FR 70216). In addition to announcing the receipt of the application, public comments were requested; no public comments were received. Also, consistent with the requirements of 50 CFR 600.745(b)(3)(i), NMFS provided copies of the EFP application to the State of South Carolina, the South Atlantic Fishery Management Council, and the U.S. Coast Guard, along with the following required information: Information on the EFP's effects on target and incidental species; citations of the regulations that, without the EFP, would prohibit the proposed collection activity; and other biological information relevant to the EFP proposal. None of these consulted entities expressed any objections to the issuance of the EFP.

Failure of the permittee to comply with the terms and conditions of the EFP may be grounds for revocation, suspension or modification of this EFP or for civil or criminal sanctions.

Authority: 16 U.S.C. 1801 et seq.

Dated: February 10, 2003.
Richard W. Surdi,
Acting Director, Office of Sustainable Fisheries, National Marine Fisheries Service.

[FR Doc. 03-3761 Filed 2-13-03; 8:45 am]

BILLING CODE 3510-22-S